DEPARTMENT OF HEALTH AND HUMAN SERVICES

Administration for Children and Families

Submission for OMB Review; Office of Community Services Data Collection for the Low Income Home Energy Assistance Program Quarterly Performance and Management Reports (0970-0589)

AGENCY: Office of Community Services, Administration for Children and Families, HHS.

ACTION: Request for public comment.

SUMMARY: The Office of Community Services (OCS), Administration for Children and Families (ACF), U.S. Department of Health and Human Services (HHS), is requesting an extension of approval for an information request to collect data from Low Income Home Energy Assistance Program (LIHEAP) grant recipients. This information collection was originally approved for 6 months as an emergency approval.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The proposed LIHEAP Quarterly Performance and Management Report will provide OCS information necessary to oversee recipients' performance in administering historic levels of LIHEAP funding and reaching the most vulnerable households. The report solicits data on total households assisted (and the total households assisted during the same quarter of the previous FY for comparison); the number of occurrences that LIHEAP prevented the loss of home energy/the number of occurrences that LIHEAP restored home energy; estimated use of LIHEAP funds by LIHEAP funding source; LIHEAP information (e.g., training and technical assistance needs, changes to program policies, collaboration with other federal utility assistance programs, etc.); and any explanation needed regarding the reliability and/or validity of the responses in prior sections. The quarterly report is not an abbreviated version of the LIHEAP Annual Report or Performance Data Form, it is a different form that was designed to focus on how states are leveraging LIHEAP to mitigate rising energy costs this winter and to track the spend down of LIHEAP supplemental funding. The currently approved versions of the LIHEAP Quarterly Performance and Management Reports can be found here https://www.reginfo.gov/public/do/PRAViewICR?ref_nbr=202202-0970-003. This extension request includes minor revisions to the instructions regarding submission details and reporting deadlines in future fiscal years.

Respondents: LIHEAP grant recipients.

Annual Burden Estimates
Instrument | Total number of respondents | Total number of responses per respondent | Average burden hours per response | Total annual burden hours
Quarterly Performance and Management Report | 206 | 3 | 12 | 7,416

Estimated Total Annual Burden Hours: 7,416.

Authority: 42 U.S.C. 8621.

Mary B. Jones,
ACF/OPRE Certifying Officer.

[FR Doc. 2022-11948 Filed 6-2-22; 8:45 am]

BILLING CODE 4184-80-P